DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term AFR Notice” appears in the list of affirmative decisions below. The term refers to the Federal Register volume and page where MSHA published a notice of the filing of the petition for modification.

FOR FURTHER INFORMATION: Petitions and copies of the final decisions are available for examination by the public in the Office of Standards, Regulations, and Variances, MSHA, 1100 Wilson Boulevard, Room 2352, Arlington, Virginia 22209. Contact Barbara Barron at 202-693-9447.

Dated in Arlington, Virginia this 16th day of April, 2003.
Marvin W. Nichols, Jr.,
Director, Office of Standards, Regulations, and Variances.

Affirmative Decisions on Petitions for Modification

Docket No.: M-2002-003-C.

FR Notice: 67 FR 11717.

Petitioner: Knott County Mining Company.

Regulation Affected: 30 CFR 75.900.

Summary of Findings: Petitioner's proposal is to use contactors to obtain under-voltage protection instead of using circuit breakers and to train all qualified persons who perform work on the equipment and circuits on safe maintenance procedures. This is considered an acceptable alternative method for the Mallet Branch Mine. MSHA grants the petition for modification to allow the use of contactors to provide under-voltage, grounded phase, and monitor the grounding conductors for low voltage power circuits serving three-phase alternating current equipment, other than portable and mobile equipment, located at the Mallet Branch Mine with conditions.

Docket No.: M-2002-005-C.

FR Notice: 67 FR 11718.

Petitioner: Cannelton Industries, Inc.

Regulation Affected: 30 CFR 75.503 (18.41(f) of part 18).

Summary of Findings: Petitioner's proposal is to use a spring-loaded device on battery plug connectors on mobile battery-powered machines in lieu of a padlock to prevent the plug connector from accidentally disengaging while under load and provide a warning tag that states “Do Not Disengage Under Load” on all battery plug connectors. This is considered an acceptable alternative method for the Mine No. 130 and Shadrick Mine. MSHA grants the petition for modification for use at the Mine No. 130 and Shadrick Mine with conditions.

Docket No.: M-2002-006-C.

FR Notice: 67 FR 11718.

Petitioner: Point Mining, Inc.

Regulation Affected: 30 CFR 75.503 (18.41(f) of part 18).

Summary of Findings: Petitioner's proposal is to use a threaded ring and a spring-loaded device on battery plug connectors on mobile battery-powered machines instead of using padlocks to prevent the plug connector from accidentally disengaging while under load, and to provide instructions to all persons who operate or maintain the battery-powered machines on the safe practices and provisions for complying with the alternative method. This is considered an acceptable alternative method for the Campbells Creek No. 4 Mine. MSHA grants the petition for modification for use at the Campbells Creek No. 4 Mine with conditions.

Docket No.: M-2002-007-C.

FR Notice: 67 FR 13196.

Petitioner: Solid Rock Construction, Inc.

Regulation Affected: 30 CFR 75.503 (18.41(f) of part 18).

Summary of Findings: Petitioner's proposal is to use permanently installed, spring-loaded locking devices to secure battery plugs on mobile battery-powered machines to prevent unintentional loosening of the battery plugs from battery receptacles, and to eliminate the potential hazards associated with difficult removal of padlocks during emergency situations. The petitioner asserts that use of padlocks to secure battery plugs would result in a diminution of safety to the miners. This is considered an acceptable alternative method for the No. 1 Mine. MSHA grants the petition for modification for use at the No. 1 Mine with conditions.

Docket No.: M-2002-008-C.

FR Notice: 67 FR 13196.

Petitioner: Aaron Coal Company, LLC.

Regulation Affected: 30 CFR 75.503 (18.41(f) of part 18).

Summary of Findings: Petitioner's proposal is to use permanently installed, spring-loaded locking devices to secure battery plugs on mobile battery-powered machines to prevent unintentional loosening of the battery plugs from battery receptacles, and to eliminate the potential hazards associated with difficult removal of padlocks during emergency situations. The petitioner asserts that using padlocks would result in a diminution of safety to the miners. This is considered an acceptable alternative method for the No. 2 Mine. MSHA grants the petition for modification to permit the use of a spring-loaded device with specific fastening characteristics in lieu of a padlock to secure plugs and electrical type connectors to batteries and to the permissible mobile battery-powered equipment for use at the No. 2 Mine with conditions.

Docket No.: M-2002-019-C.

Petitioner: White County Coal, LLC.

Regulation Affected: 30 CFR 75.503 (18.41(f) of part 18).

Summary of Findings: Petitioner's proposal is to use a round, eye-bolt snap spring-loaded locking device to secure screw caps in place on battery plugs of battery operated scoops and tractors in lieu of using its presently approved bolt and nut padlock. This is considered an acceptable alternative method for the Pattiki II Mine. MSHA grants the petition for modification to permit the use of a round eye-bolt snap spring-loaded locking device with specific fastening characteristics in lieu of a padlock to secure plugs and electrical type connectors to batteries and to the permissible mobile battery-powered equipment for use at the Pattiki II Mine with conditions.

Docket No.: M-2002-027-C.

FR Notice: 67 FR 14978.

Petitioner: Dakota Mining, Inc.

Regulation Affected: 30 CFR 75.1002.

Summary of Findings: Petitioner's proposal is to replace a low-voltage continuous miner with a 2,400-volt Joy 12CM27 machine. This is considered an acceptable alternative method for use at the No. 2 Mine. MSHA grants the petition for modification for the 2,400-volt continuous miners used throughout the No. 2 Mine with conditions.

Docket No.: M-2002-035-C.

FR Notice: 67 FR 19285.

Petitioner: Drummond Company, Inc.

Regulation Affected: 30 CFR 75.900.

Summary of Findings: Petitioner's proposal is to interrupt the low and medium voltage circuits by using under-voltage and grounded phase relays used in conjunction with fully rated contactors in lieu of using circuit breakers. The petitioner asserts that using this circuit arrangement on low and medium voltage power distribution circuits is necessary for belt conveyor operation. This is considered an acceptable alternative method for use at the Shoal Creek Mine. MSHA grants the petition for modification to allow the use of contactors to provide under-voltage, grounded phase, and monitor the grounding conductors for low and medium voltage power circuits serving three-phase alternating current equipment located in the Shoal Creek Mine with conditions.

Docket No.: M-2002-041-C.

FR Notice: 67 FR 31835.

Petitioner: Independence Coal Company, Inc.

Regulation Affected: 30 CFR 75.1002.

Summary of Findings: Petitioner's proposal is to transfer 2,400-volt high-voltage equipment from one mine to another mine within the company. This is considered an acceptable alternative method for the White Oak Mine. MSHA grants the petition for modification for use at the White Oak Mine with conditions.

Docket No.: M-2002-042-C.

FR Notice: 67 FR 37443.

Petitioner: Rivers Edge Mining, Inc., (was Eastern Associated Coal Corp.).

Regulation Affected: 30 CFR 75.900.

Summary of Findings: Petitioner's proposal is to use contactors instead of circuit breakers to provide under-voltage protection, ground fault, and ground monitor protection. This is considered an acceptable alternative method for the Rivers Edge Mine. MSHA grants the petition for modification to allow the use of contactors to provide under-voltage, grounded phase, and monitor the grounding conductors for low and medium-voltage power circuits serving three-phase alternating current equipment located in the Rivers Edge Mine with conditions.

Docket No.: M-2002-047-C.

FR Notice: 67 FR 45553.

Petitioner: Husky Coal Company, Inc.

Regulation Affected: 30 CFR 75.503 (18.41(f) of part 18).

Summary of Findings: Petitioner's proposal is to use a permanently installed, spring-loaded device on mobile battery-powered machine plug connectors, in lieu of a padlock, to prevent unintentional loosening of battery plugs from battery receptacles and to eliminate the hazards associated with the difficult removal of padlocks during emergency situations. This is considered an acceptable alternative method for the Mine No. 12. MSHA grants the petition for modification for the use of permanently installed spring-loaded locking devices in lieu of padlocks on battery plug and receptacle-type connectors for mobile battery-powered equipment at the Mine No. 12 with conditions.

Docket No.: M-2002-056-C.

FR Notice: 67 FR 49966.

Petitioner: Highland Mining Company.

Regulation Affected: 30 CFR 75.350.

Summary of Findings: Petitioner's proposal is to use air from the belt haulage entries to ventilate active working places by installing a carbon monoxide monitoring system as an early warning fire detection system in all belt entries used to course intake air to a working place. This is considered an acceptable alternative method for the Highland 9 Mine. MSHA grants the petition for modification for the use of air coursed through conveyor belt haulage entries to ventilate active working places at the Highland 9 Mine with conditions.

Docket No.: M-2002-063-C.

FR Notice: 67 FR 54675.

Petitioner: Buck Mountain Coal Company.

Regulation Affected: 30 CFR 75.1100-2(a).

Summary of Findings: Petitioner's proposal is to use only portable fire extinguishers to replace existing requirements where rock dust, water cars, and other water storage equipped with three (3) 10-quart pails is not practical. The petitioner proposes to use two (2) fire extinguishers near the slope bottom and an additional portable fire extinguisher within 500 feet of the working face for equivalent fire protection at the Buck Mountain Slope Mine. This is considered an acceptable alternative method for the Buck Mountain Slope Mine. MSHA grants the petition for modification for use of firefighting equipment in the working section at the Buck Mountain Slope Mine with conditions.

Docket No.: M-2002-064-C.

FR Notice: 67 FR 54675.

Petitioner: Buck Mountain Coal Company.

Regulation Affected: 30 CFR 75.1200(d) and (i).

Summary of Findings: Petitioner's proposal is to use cross-sections instead of contour lines through the intake slope, at locations of rock tunnel connections between veins, and at 1,000 foot intervals of advance from the intake slope; and to limit the required mapping of the mine workings above and below to those present within 100 feet of the vein being mined. This is considered an acceptable alternative method for the Buck Mountain Slope. MSHA grants the petition for modification for the Buck Mountain Slope with conditions.

Docket No.: M-2002-065-C.

FR Notice: 67 FR 54675.

Petitioner: Buck Mountain Coal Company.

Regulation Affected: 30 CFR 75.1202-1(a).

Summary of Findings: Petitioner's proposal is to revise and supplement mine maps annually instead of every 6 months as currently required, and to update maps daily by hand notations. This is considered an acceptable alternative method for the Buck Mountain Slope. MSHA grants the petition for modification for the Buck Mountain Slope with conditions.

Docket No.: M-2002-067-C.

FR Notice: 67 FR 54676.

Petitioner: Border Mining, Inc.

Regulation Affected: 30 CFR 75.503 (18.41(f) of part 18).

Summary of Findings: Petitioner's proposal is use permanently installed, spring-loaded locking devices with specific fastening characteristics, in lieu of padlocks, with its fastening configuration to secure plugs and electrical type connectors to batteries and to the permissible mobile battery-powered equipment the batteries serve. The purpose of the locking device is to prevent accidental separation of the battery plugs from their receptacles during normal operation of the battery-powered equipment. This is considered an acceptable alternative method for the No. 2 Mine. MSHA grants the petition for modification for use at the No. 2 Mine with conditions.

Docket No.: M-2002-075-C.

FR Notice: 67 FR 63166.

Petitioner: Knott County Mining Company.

Regulation Affected: 30 CFR 75.503 (18.41(f) of part 18).

Summary of Findings: Petitioner's proposal is to use permanently installed, spring-loaded locking devices with specific fastening characteristics, in lieu of padlocks, with its fastening configuration to secure plugs and electrical type connectors to batteries and to the permissible mobile battery-powered the batteries serve. The purpose of the locking device is to prevent accidental separation of the battery plugs from their receptacles during normal operation of the battery-powered equipment. This is considered an acceptable alternative method for the Mallet Branch Mine, Hollybush Mine, and Mine No. 582. MSHA grants the petition for modification for the use of permanently installed spring-loaded locking devices in lieu of padlocks on battery plug and receptacle-type connectors for mobile battery-powered equipment at the Mallet Branch Mine, Hollybush Mine, and Mine No. 582 with conditions.

Docket No.: M-2002-076-C.

FR Notice: 67 FR 63166.

Petitioner: Coemont Construction, Inc.

Regulation Affected: 30 CFR 75.503 (18.41(f) of part 18).

Summary of Findings: Petitioner's proposal is to use permanently installed spring-loaded locking devices with specific fastening characteristics, in lieu of padlocks, with its fastening configuration to secure plugs and electrical type connectors to batteries and to the permissible mobile batter-powered equipment the batteries serve. The purpose of the locking device is to prevent accidental separation of the battery plugs from their receptacles during normal operation of the battery-powered equipment. This is considered an acceptable alternative method for the Coemont No. 1 Mine. MSHA grants the petition for modification for the use of permanently installed spring-loaded locking devices in lieu of padlocks on battery plug and receptacle-type connectors for mobile battery-powered equipment at the Coemont No. 1 Mine with conditions.

Docket No.: M-2002-080-C.

FR Notice: 67 FR 63166.

Petitioner: Kentucky May Mining.

Regulation Affected: 30 CFR 75.503 (18.41(f) of part 18).

Summary of Findings: Petitioner's proposal is to use permanently installed spring-loaded locking devices with specific fastening characteristics, in lieu of padlocks, with its fastening configuration to secure plugs and electrical type connectors to batteries and to the permissible mobile batter-powered equipment the batteries serve. The purpose of the locking device is to prevent accidental separation of the battery plugs from their receptacles during normal operation of the battery-powered equipment. This is considered an acceptable alternative method for the Lakeview Mine. MSHA grants the petition for modification for the use of permanently installed spring-loaded locking devices in lieu of padlocks on battery plug and receptacle-type connectors for mobile battery-powered equipment at the Lakeview Mine with conditions.

Docket No.: M-2002-083-C.

FR Notice: 67 FR 63167.

Petitioner: Debra Lynn Coals, Inc.

Regulation Affected: 30 CFR 77.214(a).

Summary of Findings: Petitioner's proposal is to construct a refuse pile over abandoned underground mine works in the Harlan coal bed, and to de-water rock drains from two existing mine adits within the abandoned mine works. Coarse refuse at the Johns Branch Refuse Area will cover the two sealed drift mine openings into the old Golden Glow Coals, Inc. mine in the Harlan coal seam, which dips toward the existing refuse site. This is considered an acceptable alternative method for the Liggett Preparation Plant and Johns Branch Refuse Area, I.D. No. 1211-KY07-07139-01. MSHA grants the petition for modification for the Liggett Preparation Plant and the Johns Branch Refuse Area with conditions.

Docket No.: M-2002-084-C.

FR Notice: 67 FR 66168.

Petitioner: H & M Coal Co.

Regulation Affected: 30 CFR 75.1400(c).

Summary of Findings: Petitioner's proposal is to use increased rope strength and secondary safety rope connections on a slope conveyance (gunboat) for transporting persons in lieu of using catches or other no less effective devices. This is considered an acceptable alternative method for the Rocky Top Mine. MSHA grants the petition for modification for the use of the hoist conveyance (gunboat) without safety catches at the Rocky Top Mine with conditions.

Docket No.: M-2002-088-C.

FR Notice: 67 FR 66169.

Petitioner: Coastal Coal Company, LLC.

Regulation Affected: 30 CFR 77.214(a).

Summary of Findings: Petitioner's proposal is to construction a refuse pile over abandon mine openings, and to use an existing mine pit as a location for disposal of mine scalp rock. The related refuse are in the Calendonia Pit and the refuse from both the VICC #3 and VICC #8 Coastal Coal Company Mines will be used to fill the pit and reclaim the area that contains two abandoned Eastover Mine Company openings into the Jawbone coal seam. This is considered an acceptable alternative method for the VICC #3 Mine and VICC #8 Mine. MSHA grants the petition for modification for the VICC #3 Mine and VICC #8 Mine with conditions.

Docket No.: M-2002-102-C.

FR Notice: 67 FR 78821.

Petitioner: Mallie Coal Company, Inc.

Regulation Affected: 30 CFR 75.380(f)(4).

Summary of Findings: Petitioner's proposal is to use one ten pound or two five pound portable chemical fire extinguishers on each Mescher Jeep used for traveling in the primary escapeway at the Mine No. 6. This is considered an acceptable alternative method for the Mine No. 6. MSHA grants the petition for modification for Mescher three wheel tractors to be operated in the primary intake escapeway at the Mine No. 6 with conditions.

Docket No.: M-2002-103-C.

FR Notice: 67 FR 78822.

Petitioner: Mallie Coal Company, Inc.

Regulation Affected: 30 CFR 75.342.

Summary of Findings: Petitioner's proposal is to use a hand-held continuous multi-gas detector, which detects oxygen, methane, and carbon monoxide in lieu of a machine mounted methane monitor on three-wheel tractors used to load and haul coal from the mine faces. This is considered an acceptable alternative method for the Mine No. 6. MSHA grants the petition for modification for use at the Mine No. 6 with conditions.

Docket No.: M-2002-105-C.

FR Notice: 67 FR 78822.

Petitioner: Mears Enterprises, Inc.

Regulation Affected: 30 CFR 75.1000-2(e)(2).

Summary of Findings: Petitioner's proposal is to use two fire extinguishers at all temporary electrical installations in lieu of using one portable fire extinguisher and 240 pounds of rock dust. This is considered an acceptable alternative method for the Dora 8 Mine. MSHA grants the petition for modification for the temporary electrical installations, provided the petitioner maintains two portable fire extinguishers having at least the minimum capacity specified for a portable fire extinguisher in 30 CFR 75.1100-1(e), or one portable fire extinguisher with twice the minimum capacity specified in 75.1100-1(e) at each of the temporary electrical installations at the Dora 8 Mine.

Docket No.: M-2002-106-C and M-2002-107-C.

FR Notice: 67 FR 78822.

Petitioner: Highland Mining Company.

Regulation Affected: 30 CFR 75.1101-1(b).

Summary of Findings: Petitioner's proposal is to conduct weekly examinations and functional testing of the deluge fire suppression systems as an alternative to complying with the standard. This is considered an acceptable alternative method for the Highland No. 9 and Highland No. 11 Mines. MSHA grants the petition for modification for the use of deluge-type water spray systems installed at belt-conveyor drives in lieu of blow-off dust covers for nozzles at the Highland No. 9 and Highland No. 11 Mines with conditions.

Docket No.: M-2002-110-C.

FR Notice: 67 FR 78823.

Petitioner: Coastal Coal-West Virginia, LLC.

Regulation Affected: 30 CFR 75.1002.

Summary of Findings: Petitioner's proposal is to use continuous mining machines with nominal voltage of the power circuits not to exceed 2,400 volts at the Upper Mercer Mine. This is considered an acceptable alternative method for the Upper Mercer Mine. MSHA grants the petition for modification for the use of 2,400-volt continuous miners at the Upper Mercer Mine with conditions.

Docket No.: M-2002-111-C and M-2002-112-C.

FR Notice: 67 FR 78823.

Petitioner: Black Energy Coal, Inc.

Regulation Affected: 30 CFR 75.503 (18.41(f) of part 18).

Summary of Findings: Petitioner's proposal is to use permanently installed spring-loaded locking devices with specific fastening characteristics, in lieu of padlocks, with its fastening configuration to secure plugs and electrical type connectors to batteries and to the permissible mobile powered equipment the batteries serve. The purpose of the locking device is to prevent accidental separation of the battery plugs from their receptacles during normal operation of the battery equipment. This is considered an acceptable alternative method for the Mine #2 and Mine #3. MSHA grants the petition for modification for the use of permanently installed spring-loaded locking devices in lieu of padlocks on battery plug and receptacle-type connectors for mobile battery-powered equipment at the Mine #2 and Mine #3, with conditions.

Docket No.: M-2001-078-C.

FR Notice: 66 FR 41891

Petitioner: Black Beauty Coal Company.

Regulation Affected: 30 CFR 75.1002.

Summary of Findings: Petitioner's proposal is to use high-voltage 2,400-volt cables inby the last open crosscut at the working continuous miner section(s). This is considered an acceptable alternative method for the Vermillion Grove Mine. MSHA grants the petition for modification for the use at the Vermillion Grove Mine with conditions.

Docket No.: M-2001-093-C.

Petitioner: Consolidation Coal Company.

Regulation Affected: 30 CFR 75.364(b)(4).

Summary of Findings: Petitioner's proposal is to establish designated check points and have a certified person examine the check points on a daily basis to monitor for methane and to ensure safe air passage in the six seals in 1 South of the intake air course where roof and rib conditions are deterioriating and unsafe to travel. This is considered an acceptable alternative method for the Shoemaker Mine. MSHA grants the petition for modification for the Shoemaker Mine with conditions.

Docket No.: M-2001-095-C.

FR Notice: 66 FR 52156.

Petitioner: Leeco, Inc.

Regulation Affected: 30 CFR 75.900.

Summary of Findings: Petitioner's proposal is to use a maximum nominal voltage of the belt conveyor drive and water pump circuit(s) not to exceed 995-volts for under-voltage protection, a nominal voltage of belt conveyor drive control and water pump control circuit(s) not to exceed 120-volts, vacuum contactors built into or permanently affixed to the transformer enclosure and properly separated and isolated from the other components of the unit, and provide under-voltage protection for belt drive(s) and water pump motors greater than 5 horsepower for vacuum contactors that have associated protective relays. This is considered an acceptable alternative method for the No. 68 and No. 78 Mines. MSHA grants the petition for modification for the use of contactors to provide under-voltage, grounded phase, and overload protection. This would also allow the petitioner to monitor the grounding conductors for 995-volt belt conveyor drive motors and water pump motors greater than 5 horsepower located in the No. 68 and No. 78 Mines with conditions.

Docket No.: M-2001-096-C.

FR Notice: 66 FR 52156.

Petitioner: Leeco, Inc.

Regulation Affected: 30 CFR 77.214(a).

Summary of Findings: Petitioner's proposal is to place refuse over previously abandoned and reclaimed mines. The petitioner amended its petition for modification on August 26, 2002, to clarify its alternate method concerning what method and material would be used and put in place to cover the mine openings. It was determined that the material that will be used to reclaim portal openings at the No. 7, and 5A seams has a permeability of 6.25 × 10⁻⁶ cm/sec so that it will be relatively impermeable and will prevent air flow from the mine. In addition, spoil that is at least 2 feet deep by 50 feet wide will be placed on top of, and in front of the mine openings. The spoil will be compacted to 90%. When compacted to 90%, the refuse will not spontaneously combust because the density and the compactness of the refuse will prevent infiltration of sufficient oxygen to result in spontaneous combustion. Further, since the No. 7 and No. 5 coal seams dip away from the refuse pile, the small valley where the coal seams are located will be completely filled in front of the mine openings so that the closest distance between the face of the slope of fill and the deep mine openings will be approximately 400 feet. At this distance, the water from the deep mine openings will not affect the stability of the pile. This is considered an acceptable alternative method for the No. 64 Mine. MSHA grants the petition for modification for the No. 64 Mine with conditions.

Docket No.: M-2001-105-C.

FR Notice: 66 FR 64993.

Petitioner: Oxbow Mining, Inc.

Regulation Affected: 30 CFR 75.804(a).

Summary of Findings: Petitioner's proposal is to use a No. 16 A.W.G. ground check conductor in a high-voltage cable. These cables would be flame-resistant Anaconda Type SHD+GC, Pirelli Type SHD-Center-GC, Tiger Brand Type SHD-CGC, and other brands of cable of identical construction, and used on high-voltage system(s). This is considered an acceptable alternative method for the Elk Creek Mine. MSHA grants the petition for modification for the use at the Elk Creek Mine with conditions.

Docket No.: M-2001-110-C.

FR Notice: 66 FR 67550.

Petitioner: Apollo Coal Company.

Regulation Affected: 30 CFR 75.503 (18.41(f) of part 18).

Summary of Findings: Petitioner's proposal is to use permanently installed spring-loaded locking devices with specific fastening characteristics to secure plugs and electrical type connectors to batteries and to the permissible mobile powered equipment the batteries serve. The permanently installed spring-loaded locking devices would be used in lieu of padlocks to prevent accidental separation of the battery plugs from their receptacles during normal operation of the battery equipment. This is considered an acceptable alternative method for the No. 3 Mine. MSHA grants the petition for modification for the use of permanently installed spring-loaded locking devices in lieu of padlocks on battery plug and receptacle-type connectors for mobile battery-powered equipment at the No. 3 Mine with conditions.

Docket No.: M-2001-111-C.

FR Notice: 66 FR 67551.

Petitioner: Straight Fork Mining, Inc.

Regulation Affected: 30 CFR 75.503 (18.41(f) of part 18).

Summary of Findings: Petitioner's proposal is to use permanently installed spring-loaded locking devices with specific fastening characteristics to secure plugs and electrical type connectors to batteries and to the permissible mobile powered equipment the batteries serve. The permanently installed spring-loaded locking devices would be used in lieu of padlocks to prevent accidental separation of the battery plugs from their receptacles during normal operation of the battery equipment. This is considered an acceptable alternative method for the No. 3 Mine. MSHA grants the petition for modification for the use of permanently installed spring-loaded locking devices in lieu of padlocks on battery plug and receptacle-type connectors for mobile battery-powered equipment at the No. 3 Mine with conditions.

Docket No.: M-2001-114-C.

FR Notice: 66 FR 67551.

Petitioner: Centralia Mining.

Regulation Affected: 30 CFR 75.1100-2(a)(2).

Summary of Findings: Petitioner's proposal is to use two (2) portable fire extinguishers near the slope bottom and an additional portable fire extinguisher within 500 feet of the working face for equivalent fire protection for the Skidmore Slope Mine. The use of these fire extinguishers would replace existing requirements where rock dust, water cars, and other water storage equipped with three, 10-quart pails is not practical. This is considered an acceptable alternative method for the Skidmore Slope Mine. MSHA grants the petition for modification for firefighting equipment in the working section at the Skidmore Slope Mine with conditions.

Docket No.: M-2000-024-C.

FR Notice: 65 FR 19928.

Petitioner: Webster County Coal, LLC.

Regulation Affected: 30 CFR 75.333.

Summary of Findings: Petitioner's proposal is to use a temporary stopping in the return stopping line, outby the section tailpiece, for a short period of time prior to the section moving from entries to rooms in lieu of using a permanent type stopping. This is considered an acceptable alternative method for the Dotiki Mine. MSHA grants the petition for modification for use at the Dotiki Mine with conditions.

Docket No.: M-2000-109-C.

FR Notice: 65 FR 58819.

Petitioner: The American Coal Company.

Regulation Affected: 30 CFR 75.900.

Summary of Findings: Petitioner's proposal is to use a combination of suitable sized fuses or non-under-voltage release circuit breaker contactor, ground fault device, and three phase under-voltage relay, serving a three-phase low- or medium-voltage alternating current circuit. This modification is to apply to any or all low- or medium-voltage circuits. This is considered an acceptable alternative method for the Galatia Mine. MSHA has determined that the proposed alternative method would apply only to stationary belt drive power centers, stationary water pump power centers, and longwall hydraulic pump power centers. MSHA has limited the modification to those applications. In addition, MSHA determined that future power centers and dedicated electrical installation, may be safely designed and constructed to produce higher low or medium output voltages by using the same basic modification. MSHA grants the petition for modification for the use at the Galatia Mine with conditions.

[FR Doc. 03-9842 Filed 4-21-03; 8:45 am]

BILLING CODE 4510-43-P